DEPARTMENT OF STATE

[Public Notice 5899]

United States Proposals for 2008 Universal Postal Union (UPU) Congress

AGENCY: Department of State.

ACTION: Notice.

SUMMARY: The Department of State solicits ideas and suggestions for proposals that the U.S. Government could submit to the plenipotentiary Congress of the Universal Postal Union (UPU) to be held in Nairobi, Kenya from August 13 to September 3, 2008. The deadline for submission of proposals by an individual UPU member country is February 12, 2008.

DATES: Written suggestions for draft proposals for the Nairobi UPU Congress should reach the Department of State by September 30, 2007.

ADDRESSES: Your suggestions may be sent to the Department of State by one of the following methods:

• E-mail: DelehantyDM@state.gov or WoodCS@state.gov.

• Fax: (202) 647-8902.

• Mail: Mr. Dennis Delehanty, Foreign Affairs Officer, Office of Technical Specialized Agencies (IO/T), Bureau of International Organization Affairs, Department of State, 2201 C Street, NW., Room 5333, Washington, DC 20520.

FOR FURTHER INFORMATION CONTACT: Mr. Dennis Delehanty, Foreign Affairs Officer, Office of Technical Specialized Agencies (IO/T), Bureau of International Organization Affairs, Department of State, (202) 647-4197.

SUPPLEMENTARY INFORMATION: Under Article 122 of the UPU General Regulations, proposals that are submitted to the International Bureau at least six months before the start of Congress will be accepted. A proposal submitted between six and four months before the start of Congress will be accepted only if it is supported by at least two member countries. A proposal submitted between four and two months before the Congress will be accepted only if it supported by at least eight member countries; proposals submitted after that date will not be accepted.

From October through December of this year, the State Department will lead a consultation process among U.S. stakeholders to review the suggestions received. This process will culminate in the drafting of proposals that the U.S. Government will submit to the Nairobi Congress.

For reference, the 32 proposals that the United States submitted to the 2004 Bucharest UPU Congress, either independently or together with other member countries, are available on the State Department Web site at the following link: http://www.state.gov/p/io/ipp/usgdoc/puc/43124.htm.

Dated: August 14, 2007.
Dennis M. Delehanty,
Foreign Affairs Officer, Department of State.

[FR Doc. E7-16595 Filed 8-21-07; 8:45 am]

BILLING CODE 4710-19-P